SURFACE TRANSPORTATION BOARD

[Docket No. FD 36589]

Merced County Central Valley Railroad, LLC—Lease and Operation Exemption—Track in Merced County, Cal.

Merced County Central Valley Railroad, LLC (MCCVR), a noncarrier, has filed a verified notice of exemption under 49 CFR 1150.31 to lease from Merced County, Cal. (the County), and to commence common carrier operations on approximately 0.3 miles of track located at the Castle Commerce Center at Atwater in Merced County (the Line). According to MCCVR, the Line currently is unregulated track and has no mileposts.

This transaction is related to a verified notice of exemption filed concurrently in Patriot Rail Company—Continuance in Control Exemption—Merced County Central Valley Railroad, Docket No. FD 36590, in which Patriot Rail Company LLC and a number of other applicants seek to continue in control of MCCVR upon MCCVR's becoming a Class III carrier.

MCCVR states that it and the County entered into a Lease of County Property (the Lease), pursuant to which MCCVR will provide common carrier rail service on the Line.¹

¹ Public and confidential versions of the Agreement were filed with the verified notice. The confidential version was submitted under seal concurrently with a motion for protective order, which was granted on April 12, 2022.

MCCVR certifies that its projected annual revenues from this transaction will not result in the creation of a Class I or Class II rail carrier and will not exceed $5 million. MCCVR also certifies that the Lease does not include an interchange commitment.

The earliest this transaction may be consummated is June 25, 2022, the effective date of the exemption (30 days after the verified notice was filed).²

² MCCVR supplemented its verified notice on April 29 and May 26, 2022. Therefore, May 26, 2022, is considered the filing date for the purpose of calculating the effective date of the exemption.

If the verified notice contains false or misleading information, the exemption is void ab initio. Petitions to revoke the exemption under 49 U.S.C. 10502(d) may be filed at any time. The filing of a petition to revoke will not automatically stay the effectiveness of the exemption. Petitions for stay must be filed no later than June 17, 2022 (at least seven days before the exemption becomes effective).

All pleadings, referring to Docket No. FD 36589, must be filed with the Surface Transportation Board either via e-filing on the Board's website or in writing addressed to 395 E Street SW, Washington, DC 20423-0001. In addition, a copy of each pleading must be served on MCCVR's representative, Bradon J. Smith, Fletcher & Sippel LLC, 29 North Wacker Drive, Suite 800, Chicago, IL 60606.

According to MCCVR, this action is categorically excluded from environmental review under 49 CFR 1105.6(c) and from historic preservation reporting requirements under 49 CFR 1105.8(b).

Board decisions and notices are available at www.stb.gov.

Decided: June 7, 2022.
By the Board, Scott M. Zimmerman, Acting Director, Office of Proceedings.
Brendetta Jones,
Clearance Clerk.

[FR Doc. 2022-12568 Filed 6-9-22; 8:45 am]

BILLING CODE 4915-01-P